DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of a person whose property and interests in property have been unblocked and who have been removed from the Specially Designated Nationals and Blocked Persons List (SDN List). OFAC is also publishing the name of a vessel previously been identified on the SDN List that is being removed from the SDN List.

DATES: OFAC's actions described in this notice were effective on April 26, 2024.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On April 26, 2024, OFAC removed from the SDN List the person listed below, whose property and interests in property were blocked pursuant to section 1(a) of Executive Order 14024 of April 15, 2021, “Blocking Property With Respect To Specified Harmful Foreign Activities of the Government of the Russian Federation,” 86 FR 20249, 3 CFR, 2021 Comp., p. 542 (Apr. 15, 2021) (E.O. 14024).

1. ICE PEARL NAVIGATION CORP, Ucpinarlar Caddesi 36, Kucuk Camlica, Uskudar 34696, Turkey; Marshall Islands; Identification Number IMO 4118745 [RUSSIA-EO14024]

B. On April 26, 2024, OFAC removed from the SDN List the vessel listed below, which was previously subject to prohibitions imposed pursuant to E.O. 14024.

1. YASA GOLDEN BOSPHORUS (V7KQ8) Crude Oil Tanker Marshall Islands flag; Vessel Registration Identification IMO 9334038; MMSI 538002662 (vessel) [RUSSIA-EO14024] (Linked To: ICE PEARL NAVIGATION CORP).

Dated: April 26, 2024.
Bradley T. Smith,
Director, Office of Foreign Assets Control, U.S. Department of the Treasury.

[FR Doc. 2024-09389 Filed 4-30-24; 8:45 am]

BILLING CODE 4810-AL-P